DEPARTMENT OF TRANSPORTATION

Federal Aviation Administration

Public Notice for Waiver of Aeronautical Land-Use Assurance

AGENCY: Federal Aviation Administration (FAA), DOT.

ACTION: Notice of intent of waiver with respect to land; Morris Municipal Airport, Morris, Illinois.

SUMMARY: The FAA is considering a proposal to change a 0.747-acre portion of airport land from aeronautical use to non-aeronautical use and to authorize the sale of airport property located at Morris Municipal Airport, Morris, Illinois.

The subject portion of airport property considered for release from obligation to be maintained for aeronautical use and sale includes a 0.346-acre portion of Parcel G (110.55 total acres) and 0.401-acre portion of Parcel C2 (73.27 total acres) that are located in the west quadrant of the airport along Illinois Route 47 and currently not being used directly for aeronautical purposes. Currently, ownership of the property provides for protection of FAR Part 77 surfaces and compatible land use which would continue to be protected with deed restrictions required in the transfer of land ownership. The change from aeronautical to non-aeronautical use would allow for the widening of Route 47 which is directly adjacent to the airport. The aforementioned land is not needed for aeronautical use.

DATES: Comments must be received on or before July 25, 2013.

ADDRESSES: Documents are available for review by prior appointment at the FAA Airports District Office, Mr. Richard Pur, Airports Engineer, Federal Aviation Administration, Chicago Airports District Office, 2300 East Devon Avenue, Des Plaines, Illinois 60018. Telephone: (847) 294-7527/Fax: (847) 294-7046, and Morris Municipal Airport, 9980 North Route 47, Morris, Illinois 60450, and (815) 942-1600.

Written comments on the Sponsor's request must be delivered or mailed to: Mr. Richard Pur, Airports Engineer, Federal Aviation Administration, Chicago Airports District Office, 2300 East Devon Avenue, Des Plaines, Illinois 60018. Telephone: (847) 294-7527/Fax: (847) 294-7046.

FOR FURTHER INFORMATION CONTACT: Mr. Richard Pur, Airports Engineer, Federal Aviation Administration, Chicago Airports District Office, 2300 East Devon Avenue, Des Plaines, Illinois 60018. Telephone: (847) 294-7527/Fax: (847) 294-7046.

SUPPLEMENTARY INFORMATION: In accordance with section 47107(h) of Title 49, United States Code, this notice is required to be published in the Federal Register 30 days before modifying the land-use assurance that requires the property to be used for an aeronautical purpose.

Existing Parcel G was originally acquired under AIP Grant 3-17-SBGP-SB91 in July, 1991, and Parcel C2 was originally acquired under AIP Grant 3-17-SBGP-74 in December, 2012, with the subject portions of those parcels currently used for FAR Part 77 protection and to ensure compatible land use. The City of Morris plans to sell the subject property to the Illinois Department of Transportation—Division of Highways for the purpose of widening Route 47 adjacent to the airport. Fair Market Value will be obtained from the sale of the subject property.

Approval does not constitute a commitment by the FAA to financially assist in the disposal of the subject airport property nor a determination of eligibility for grant-in-aid funding from the FAA. The use of the revenue generated from the sale of the airport property will be in accordance with FAA's Policy and Procedures concerning the Use of Airport Revenue, published in the Federal Register on February 16, 1999 (64 FR 7696).

Tract 1—Subject Portion of Parcel G (Legal Description)

That part of the Southwest Quarter of Section 15, Township 34 North, Range 7 East of the Third Principal Meridian, Grundy County, Illinois, with bearings and grid distances referenced to the Illinois State Plane Coordinate System, East Zone NAD 83 (2007 adj) described as follows:

Commencing at the southwest corner of said Southwest Quarter of Section 15 per monument record recorded as document no. 393406 in the Grundy County Recorder's Office; thence North 88 degrees 16 minutes 09 seconds East 60.48 feet on the south line of said Southwest Quarter to the Point of Beginning; thence North 00 degrees 58 minutes 40 seconds West 411.70 feet on the existing east right-of-way line of FAP 326 (IL Rte. 47); thence North 89 degrees 01 minute 44 seconds East 14.99 feet; thence South 00 degrees 58 minutes 44 seconds East 23.03 feet; thence North 87 degrees 45 minutes 50 seconds East 10.00 feet; thence South 00 degrees 58 minutes 44 seconds East 279.89 feet; thence South 17 degrees 40 minutes 42 seconds East 52.20 feet; thence South 00 degree 58 minutes 44 seconds East 58.47 feet to said south line; thence South 88 degrees 16 minutes 09 minutes West 40.00 feet on said south line to the Point of Beginning; containing 0.260 acre, more or less (area based on ground distances), situated in the County of Grundy and State of Illinois.

Tract 2—Subject Portion of Parcel G (Legal Description)

That part of the Southwest Quarter of Section 15, Township 34 North, Range 7 East of the Third Principal Meridian, Grundy County, Illinois, with bearings and grid distances referenced to the Illinois State Plane Coordinate System, East Zone NAD 83 (2007 adj) described as follows:

Commencing at the southwest corner of said Southwest Quarter of Section 15 per monument record recorded as document no. 393406 in the Grundy County Recorder's Office; thence North 00 degrees 58 minutes 16 seconds West 610.50 feet on the west line of said Southwest Quarter to the north line of property described in Book 313, Page 29; thence North 89 degrees 01 minute 44 seconds East 60.41 feet on said north line to the Point of Beginning; thence North 00 degrees 58 minutes 40 seconds West 413.02 feet on the existing east right-of-way line of FAP 326 (IL Rte. 47) to a non-tangential curve; thence South 413.32 feet along a 8,075.00 foot radius curve to the right with a chord bearing South 03 degrees 00 minutes 11 seconds East 413.28 feet to said north line, thence South 89 degrees 01 minute 44 seconds West 14.61 feet on said north line to the Point of Beginning; containing 0.086 acre or 3,745 square feet, more or less (area based on ground distances), situated in the County of Grundy and State of Illinois.

Tract 3—Subject Portion of Parcel C2 (Legal Description)

That part of the Southwest Quarter of Section 10, Township 34 North, Range 7 East of the Third Principal Meridian, Grundy County, Illinois, with bearings and grid distances referenced to the Illinois State Plane Coordinate System, East Zone NAD 83 (2007 adj) described as follows:

Commencing at the southwest corner of said Southwest Quarter of Section 10 per monument record recorded as document no. 393405 in the Grundy County Recorder's Office; thence North 00 degrees 59 minutes 16 seconds West 817.70 feet on the west line of said Southwest Quarter; thence North 88 degrees 25 minutes 01 seconds East 45.36 feet to the existing east right-of-way line of FAP 326 (IL Rte. 47) and the Point of Beginning; thence North 00 degrees 58 minutes 44 seconds West 408.60 feet on said east line; thence North 01 degree 52 minutes 59 seconds East 131.38 feet on said east line; thence North 04 degrees 36 minutes 35 seconds West 197.24 feet on said east line; thence North 00 degree 55 minutes 36 seconds West 771.00 feet on said east line to the northwest corner of property described in Condemnation Case No. 2011 ED 1 filed in the Grundy County Circuit Clerk's office; thence South 01 degree 39 minutes 56 seconds East 596.18 feet to a non-tangential curve; thence southerly 620.26 feet along a 8,095.00 foot radius curve to the right with a chord bearing South 03 degrees 10 minutes 02 seconds East 620.10 feet; thence South 14 degrees 10 minutes 10 seconds West 76.57 feet; thence South 00 degrees 58 minutes 19 seconds East 453.56 feet; thence South 88 degrees 25 minutes 01 second West 5.53 feet to said existing east right-of-way line; thence North 00 degrees 58 minutes 44 seconds West 235.65 feet on said existing east right-of-way line to the Point of Beginning; containing 0.401 acre or 17,470 square feet, more or less (area based on ground distances), situated in the County of Grundy and State of Illinois.

Issued in Des Plaines, Illinois, on June 7, 2013.
James G. Keefer,
Manager, Chicago Airports District Office, FAA, Great Lakes Region.

[FR Doc. 2013-15130 Filed 6-24-13; 8:45 am]

BILLING CODE 4910-13-P